DEPARTMENT OF COMMERCE

National Oceanic and Atmospheric Administration

RIN 0648-XR17

North Pacific Fishery Management Council; Public Meeting

AGENCY: National Marine Fisheries Service (NMFS), National Oceanic and Atmospheric Administration (NOAA), Commerce.

ACTION: Notice of a public meeting.

SUMMARY: The North Pacific Fishery Management Council's (Council) Non-Target Species Committee will meet in Seattle, WA.

DATES: The meeting will be held on September 15, 2009, from 8:30 a.m. to 12 p.m.

ADDRESSES: The meeting will be held at the Alaska Fishery Science Center (AFSC), 7600 Sand Point Way NE, Building 4, NMNL Room, Room 2139, Seattle, WA.

Council address: North Pacific Fishery Management Council, 605 W. 4th Avenue, Suite 306, Anchorage, AK 99501-2252.

FOR FURTHER INFORMATION CONTACT: Jane DiCosimo, Council staff, telephone: (907) 271-2809.

SUPPLEMENTARY INFORMATION: The committee will receive brief updates on two AFSC reports on uncertainty and vulnerable species which will be incorporated into the action plan for amending the groundfish fishery management plans to address annual catch limits. The committee will also review action plans for revising management of BSAI skates, Bering Sea and Aleutian Island/Gulf of Alaska (BSAI/GOA) squid, BSAI/GOA octopus, BSAI/GOA shark and sculpin, and BSAI/GOA grenadier.

Although non-emergency issues not contained in this agenda may come before this group for discussion, in accordance with the Magnuson-Stevens Fishery Conservation and Management Act (Magnuson-Stevens Act), those issues may not be the subject of formal action during this meeting. Actions will be restricted to those issues specifically identified in this notice and any issues arising after publication of this notice that require emergency action under Section 305(c) of the Magnuson-Stevens Act, provided the public has been notified of the Council's intent to take final action to address the emergency.

Special Accommodations

The meeting is physically accessible to people with disabilities. Requests for sign language interpretation or other auxiliary aids should be directed to Gail Bendixen at (907) 271-2809 at least 7 working days prior to the meeting date.

Dated: August 24, 2009.
Tracey L. Thompson,
Acting Director, Office of Sustainable Fisheries, National Marine Fisheries Service.

[FR Doc. E9-20689 Filed 8-26-09; 8:45 am]

BILLING CODE 3510-22-S